DEPARTMENT OF ENERGY

Federal Energy Regulatory Commission

[Docket No. CP00-394-000]

Williams Gas Pipelines Central, Inc.; Notice of Application

June 30, 2000.

Take notice that on June 21, 2000, Williams Gas Pipelines Central, Inc. (Williams), P.O. Box 20008, Owensboro, Kentucky 42304, filed in Docket No. CP00-394-000 an application pursuant to Sections 7(b) of the Natural Gas Act for permission and approval to abandon certain pipeline facilities located in Kansas, all as more fully set forth in the application on file with the Commission and open to public inspection. This filing may be viewed on the web at http://www.ferc.fed.us/online/htm (call 202-208-2222 for assistance).

Williams proposes to abandon approximately 64.3 miles of the Pampa 20-inch pipeline (Line G) and appurtenant facilities located in Butler, Chase and Lyon Counties, Kansas. Williams proposes to abandon the facilities by sale for subsequent reclaim for salvage and abandonment in place. It is explained that the proposed abandonment is part of Williams' ongoing effort to eliminate old, high maintenance pipelines. Williams estimates the sale price at slightly over $1 million and the cost of abandonment at approximately $86,445. It is stated that Williams has a 65-mile 6-inch pipeline which has been idle and which has sufficient capacity to serve the customers that were served by the 20-inch pipeline. It is asserted that Williams has contacted the affected landowners, and that there would be no abandonment of service as a result of the proposed abandonment of facilities.

Any questions regarding the application should be directed to David N. Roberts, Manager, Tariffs & Regulatory Analysis, at (270) 688-6712, P.O. Box 20008, Owensboro, Kentucky 42304.

Any person desiring to be heard or to make any protest with reference to said application should on or before July 21, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Williams to appear or be represented at the hearing.

David P. Boergers,
Secretary.

[FR Doc. 00-17166 Filed 7-6-00; 8:45 am]

BILLING CODE 6717-01-M